SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503, Fax: 202-395-6974.

(SSA), Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Continuation of Full Benefit Standard for Persons Institutionalized—20 CFR 416.212—0960-0516. SSA is required by law to establish procedures for collecting information on whether an Supplemental Security Income (SSI) recipient who becomes institutionalized (e.g. hospital, nursing home) may be eligible for continued benefits, based on the full federal benefit rate, if a physician certifies that the expected period of medical confinement will last no more than 90 days. The individual (or someone acting on his/her behalf) must demonstrate the need to pay some or all of the expenses of maintaining the home. The respondents are applicants for SSI benefits.

Type of Request: Extension of an OMB-approved information collection.

Number of Respondents: 60,000.

Frequency of Response: 1.

Average Burden Per Response: 5 minutes.

Estimated Average Burden: 5,000 hours.

2. Representative Payee Report of Benefits and Dedicated Account—20 CFR 416.546, 416.635, 416.640, and 416.665—0960-0576. Form SSA-6233 is used to ensure that the representative payee is using the benefits received for the beneficiary's current maintenance and personal needs and that expenditures of funds from the dedicated account are in compliance with the law. The respondents are individuals and organizational representative payees who are required by law to establish a separate (“dedicated”) account in a financial institution for certain past-due SSI benefits.

Type of Request: Extension of an OMB-approved information collection.

Number of Respondents: 30,000.

Frequency of Response: 1.

Average Burden Per Response: 20 minutes.

Estimated Annual Burden: 10,000 hours.

3. Internet Change of Address—0960-NEW. The information requested by the Social Security Administration (SSA) via the Internet will be used to report a Title II beneficiary's change of address/telephone number and to verify the identity of the individual using knowledge-based authentication. Electronic screens solicit identity information that will be verified by comparing it with information in SSA's records. The screens must be completed and identity authenticated before the requestor can change their address. This Internet option to change the address/telephone number will eliminate the need for a phone call to a teleservice center or a visit to a field office. The respondents are beneficiaries who request a change of address or telephone number via the Internet.

Type of Request: New information collection.

Number of Respondents: 80,000.

Frequency of Response: 1.

Average Burden Per Response: 10 minutes.

Estimated Annual Burden: 13,333 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Statement for Determining Continuing Eligibility, Supplemental Security Income Payment—20 CFR, Subpart D, 416.204—0960-0145. SSA uses form SSA-8202-BK to conduct low- and middle-error-profile (LEP-MEP) telephone or face-to-face redetermination (RZ) interviews with SSI recipients and representative payees. The information collected during the interview is used to determine whether SSI recipients have met and continue to meet all statutory and regulatory requirements for SSI eligibility and whether they have been, and are still receiving, the correct payment amount. Form SSA-8202-OCR-SM (Optical Character Recognition Self-Mailer) collects information similar to that collected on Form SSA-8202-BK. However, it is used exclusively in LEP RZ cases on a 6-year cycle.

Type of Request: Extension of an OMB-approved collection.

Forms | Respondents | Frequency of response | Average burden per response (minutes) | Estimated annual burden (hours)
SSA-8202-F6 | 920,000 | 1 | 19 | 291,333
SSA-8202-OCR-SM | 800,000 | 1 | 9 | 120,000

Total Burden Hours for this Request: 411,333 hours.

2. Statement for Determining Continuing Eligibility, Supplemental Security Income Payment(s)—20 CFR Subpart B, 416.204-0960-0416. SSA uses the information collected on form SSA-8203-BK for high-error-profile (HEP) redeterminations of disability to determine whether SSI recipients have met and continue to meet all statutory and regulatory requirements for SSI eligibility and whether they have been, and are still receiving, the correct payment amount. The information is normally completed in field offices by personal contact (face-to-face or telephone interview) using the automated Modernized SSI Claim System (MSSICS). The respondents are recipients of Title XVI benefits.

Type of Request: Extension of an OMB-approved information collection.

Number of Respondents: 1,000,000.

Frequency of Response: 1.

Average Burden Per Response: 19 minutes.

Estimated Annual Burden: 316,667 hours.

Dated: September 30, 2003.
Elizabeth A. Davidson,
Reports Clearance Officer, Social Security Administration.

[FR Doc. 03-25244 Filed 10-3-03; 8:45 am]

BILLING CODE 4191-02-P